DEPARTMENT OF HEALTH AND HUMAN SERVICES

National Institutes of Health

Prospective Grant of an Exclusive Patent License: Thio Compounds and Thalidomide Analogues for the Treatment of Neurological Diseases

AGENCY: National Institutes of Health, HHS.

ACTION: Notice.

SUMMARY: The National Institute on Aging and the National Cancer Institute, institutes of the National Institutes of Health, Department of Health and Human Services, are contemplating the grant of an Exclusive Patent License to practice the inventions embodied in the U.S. and foreign Patents and Patent Applications listed in the Supplementary Information section of this notice to AevisBio, Inc. located in 814 W Diamond Ave., Suite 203, Gaithersburg, MD 20870.

DATES: Only written comments and/or applications for a license which are received by the National Institute on Aging c/o National Cancer Institute's Technology Transfer Center on or before May 8, 2020 will be considered.

ADDRESSES: Requests for copies of the patent application, inquiries, and comments relating to the contemplated Exclusive Patent License should be directed to: Merissa Baxter, Ph.D., Technology Transfer Manager, NCI Technology Transfer Center, 9609 Medical Center Drive, Rm. 1E406 MSC 9702, Bethesda, MD 20892-9702 (for business mail), Rockville, MD 20850-9702, Telephone: 240-276-7234, Email: merissa.baxter@nih.gov.

SUPPLEMENTARY INFORMATION:

Intellectually Property

United States Patent No. 8,927,725, issued January 6, 2015 and entitled “Thio Compounds” [HHS Reference No. E-045-2012-0-US-01]; United States Patent No. 9,084,783, issued July 21, 2015 and entitled “Thio Compounds”[HHS Reference No. E-045-2012-0-US-02]; United States Patent No. 9,623,020, issued April 18, 2017 and entitled “Thio Compounds” [HHS Reference No. E-045-2012-0- US-03]; United States Patent No. 10,220,028, issued March 5, 2019 and entitled “Thio Compounds” [HHS Reference No. E-045-2012-0-US-04]; US Provisional Patent Application No. 62/235,105, filed on September 30, 2015 and entitled “Thalidomide Analogs and Methods of Use” [HHS Reference No. E-208-2015-0-US-01]; PCT Patent Application No. PCT/US2016/054430, filed on September 29, 2016 and entitled, “Thalidomide Analogs and Methods of Use” [HHS Reference No. E-208-2015-0-PCT-02]; Australian Patent Application No. 2016330967, filed on September 29, 2016 and entitled “Thalidomide Analogs and Methods of Use” [HHS Reference No. E-208-2015-0-AU-03]; Canadian Patent Application No. 3000661, filed on September 29, 2019 and entitled “Thalidomide Analogs and Methods of Use” [HHS Reference No. E-208-2015-0-CA-04]; European Patent Application No. 16782148.7, filed on September 29, 2019 and entitled “Thalidomide Analogs and Methods of Use” [HHS Reference No. E-208-2015-0-EP-05]; South Korean Patent Application No. 10-2018-7012347, filed on April 13, 2018 and entitled “Thalidomide Analogs and Methods of Use” [HHS Reference No. E-208-2015-0-KR-06]; and United States Patent Application No. 15/764,193, filed on March 28, 2018 and entitled “Thalidomide Analogs and Methods of Use” [HHS Reference No. E-208-2015-US-07].

The patent rights in these inventions have been assigned and/or exclusively licensed to the government of the United States of America.

The prospective exclusive license territory may be world-wide, and the field of use may be limited to the use of Licensed Patent Rights for the following: “The development, production, and commercialization of a select subset of thalidomide/lenalidomide/pomalidomide (POMA) analogue compounds for the therapeutic treatment of neurological disorders prevalent in aging: Specifically, Traumatic Brain Injury (TBI), Alzheimer's disease (AD), Parkinson's disease (PD), and Multiple Sclerosis (MS).”

These technologies disclose novel thalidomide, lenalidomide, and pomalidomide analogues that can potentially be used for the treatment of neurological diseases, autoimmunity, and/or cancer.

This notice is made in accordance with 35 U.S.C. 209 and 37 CFR part 404. The prospective exclusive license will be royalty bearing, and the prospective exclusive license may be granted unless within fifteen (15) days from the date of this published notice, the National Institute on Aging receives written evidence and argument that establishes that the grant of the license would not be consistent with the requirements of 35 U.S.C. 209 and 37 CFR part 404.

In response to this Notice, the public may file comments or objections. Comments and objections, other than those in the form of a license application, will not be treated confidentially, and may be made publicly available.

License applications submitted in response to this Notice will be presumed to contain business confidential information and any release of information in these license applications will be made only as required and upon a request under the Freedom of Information Act, 5 U.S.C. 552.

Dated: April 13, 2020.
Richard U. Rodriguez,
Associate Director, Technology Transfer Center, National Cancer Institute.

[FR Doc. 2020-08560 Filed 4-22-20; 8:45 am]

BILLING CODE 4140-01-P